DEPARTMENT OF THE INTERIOR

Fish and Wildlife Service

Preparation of an Environmental Impact Statement for Issuance of an Incidental Take Permit Amendment Associated With Expansion of the U.S. Borax Mine, Near Boron in Kern County, CA

AGENCY: Fish and Wildlife Service, Interior.

ACTION: Notice of intent.

SUMMARY: Pursuant to the National Environmental Policy Act (NEPA), the U.S. Fish and Wildlife Service (Service) advises the public that we intend to gather information necessary to prepare an Environmental Impact Statement (EIS) on the proposed expansion and amendment of the U.S. Borax Inc. (U.S. Borax) Life of Mine Project Habitat Conservation Plan (HCP). The proposed amendment is being prepared under section 10(a)(1)(B) of the Endangered Species Act of 1973 as amended, (Act). The HCP and incidental take permit amendments are needed to authorize the incidental take of listed species as a result of implementing activities covered under the proposed HCP amendment.

We provide this notice to: (1) Describe the proposed action and possible alternatives; (2) advise other Federal and State agencies, affected Tribes, and the public of our intent to prepare an EIS; (3) announce the initiation of a 30-day public scoping period; and (4) obtain suggestions and information on the scope of issues and alternatives to be included in the EIS.

DATES: A public meeting will be held on: Tuesday, May 17, 2005 at 1-3 p.m. and 6-8 p.m. Written comments should be received on or before May 25, 2005.

ADDRESSES: The public meeting will be held at Boron Senior Citizens Center, 27177 Twenty Mule Team Road, Boron, CA 93516. Information, written comments, or questions related to the preparation of the EIS and the NEPA process should be submitted to the U.S. Fish and Wildlife Service, Ventura Fish and Wildlife Office, 2493 Portola Road, Suite B, Ventura, California 93003; fw1usborax@fws.gov; or fax (805) 644-3958.

FOR FURTHER INFORMATION CONTACT: Doug Threloff (see ADDRESSES), (805) 644-1766.

SUPPLEMENTARY INFORMATION:

Reasonable Accommodation

Persons needing reasonable accommodations to attend and participate in the public meeting should contact Geri Black of the Ventura Fish and Wildlife Office at (805) 644-1766 as soon as possible. To allow sufficient time to process requests, please call no later than one week before the public meeting. Information regarding this proposed action is available in alternative formats upon request.

Background

Section 9 of the Act and Federal regulations prohibit the “take” of a fish or wildlife species listed as endangered or threatened. Under the Endangered Species Act (16 U.S.C. 1531 et seq.), the following activities are defined as take: to harass, harm, pursue, hunt, shoot, wound, kill, trap, capture or collect listed animal species, or attempt to engage in such conduct (16 U.S.C. 1538). However, under section 10(a)(1)(B) of the Act, we may issue permits to authorize “incidental take” of listed animal species. Incidental take is defined by the Act as take that is incidental to, and not the purpose of, carrying out an otherwise lawful activity. Regulations governing permits for threatened and endangered species are at 50 CFR part 13 and 50 CFR part 17, respectively.

U.S. Borax currently holds a permit for the federally threatened desert tortoise (Gopherus agassizii) for incidental take caused by mining operations on 3,465 acres in San Bernardino County, California. The permit was issued on February 5, 1999, and expires on February 5, 2049. Activities included in the HCP for the permitted project are: The creation of an overburden stockpile on 1,848 acres; expansion of the open mine pit by 22 acres; creation of 3 flood control catchment basins on 70 acres; construction of a desert tortoise berm on 9.8 miles; and conservation of 2,274 acres of desert tortoise habitat. Overburden consists of soil and rock material overlying the borate ore. Since the permit was issued, U.S. Borax has been in compliance with the terms and conditions outlined in its HCP, Implementing Agreement, and incidental take permit. In addition, no desert tortoises have been reported as taken.

U.S. Borax intends to request a permit amendment for the incidental take of the desert tortoise on approximately 1,501 additional acres in Kern County. The proposed expansion would modify the currently permitted mining entitlements and the processing of sodium and calcium borates at the existing U.S. Borax facility in Boron, California. Activities proposed to be covered by the HCP amendment are: to increase the overburden stockpile cover by 1,333 acres; create a gangue stockpile on 129 acres (gangue is the insoluble material in the ore); create 4 additional flood control catchment basins on 39 acres; construct a desert tortoise exclusion barrier along 7.1 miles; and conserve 1,466 acres of desert tortoise habitat.

Environmental Impact Statement

U.S. Borax and the Service have selected WZI, Inc. (WZI) to prepare the EIS. The document will be prepared in compliance with the National Environmental Policy Act (42 U.S.C. 4321 et seq.) (NEPA). WZI will prepare the EIS under the supervision of the Service, which will be responsible for the scope and content of the document.

The EIS will consider the proposed action, the issuance of a section 10(a)(1)(B) permit amendment under the Act, no action (no permit amendment), and a reasonable range of alternatives. A detailed description of the impacts of the proposed action and each alternative will be included in the EIS. Several alternatives will be considered and analyzed, representing varying levels of conservation and impacts. The alternatives to be considered for analysis in the EIS may include: Variations in the scope of covered activities; variations in the location, amount, and type of conservation; variations in permit duration; or a combination of these elements.

The EIS will also identify potentially significant direct, indirect, and cumulative impacts on biological resources, land use, air quality, water quality, water resources, socioeconomics, and other environmental issues that could occur with the implementation of the proposed actions and alternatives. For all potentially significant impacts, the EIS will identify avoidance, minimization, and mitigation measures to reduce these impacts, where feasible, to a level below significance.

Review of the EIS will be conducted in accordance with the requirements of NEPA, Council on Environmental Quality Regulations (40 CFR 1500-1508), the Administrative Procedure Act (5 U.S.C. 500 et seq.), other applicable regulations, and the Service's procedures for compliance with those regulations. This notice is being furnished in accordance with 40 CFR 1501.7 of NEPA to obtain suggestions and information from other agencies and the public on the scope of issues and alternatives to be addressed in the EIS. The primary purpose of the scoping process is to identify important issues and alternatives raised by the public related to the proposed action. Written comments from interested parties are welcome to ensure that the full range of issues related to the permit request is identified. Comments will only be accepted in written form. You may submit written comments by mail, e-mail, or facsimile transmission (see ADDRESSES). Our practice is to make comments, including names and home addresses of respondents, available for public review during regular business hours. Individual respondents may request that we withhold their identity from the administrative record. We will honor such requests to the extent allowed by law. If you wish us to withhold your identity (e.g., individual name, home address, and home phone number), you must state this prominently at the beginning of your comments. We will make all submissions from organizations, agencies, or businesses, and from individuals identifying themselves as representatives or officials of such entities, available for public inspection in their entirety.

Dated: April 19, 2005.
D. Kenneth McDermond,
Deputy Manager, California/Nevada Operations Office, U.S. Fish and Wildlife Service.

[FR Doc. 05-8174 Filed 4-22-05; 8:45 am]

BILLING CODE 4310-55-P